DEPARTMENT OF THE INTERIOR

National Park Service

[NPS-WASO-NAGPRA-18276; PPWOCRADN0-PCU00RP15.R50000]

Notice of Inventory Completion: U.S. Army Corps of Engineers, St. Louis District, Mark Twain Lake, MO

AGENCY: National Park Service, Interior.

ACTION: Notice.

SUMMARY: The U.S. Army Corps of Engineers, St. Louis District, has completed an inventory of human remains and associated funerary objects for Mark Twain Lake, MO, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the St. Louis District. If no additional requestors come forward, transfer of control of the human remains and associated funerary objects to the Indian tribes stated in this notice may proceed.

DATES: Representatives of any Indian tribe or Native Hawaiian organization not identified in this notice that wish to request transfer of control of these human remains and associated funerary objects should submit a written request with information in support of the request to the U.S. Army Corps of Engineers, St. Louis District at the address in this notice by July 9, 2015.

ADDRESSES: U.S. Army Corps of Engineers, St. Louis District, ATTN: CEMVS-EC-Z (Michael K. Trimble, Ph.D.), 1222 Spruce Street, St. Louis, MO 63103-2833, telephone (314) 331-8466, email michael.k.trimble@usace.army.mil.

SUPPLEMENTARY INFORMATION: Notice is here given in accordance with the Native American Graves Protection and Repatriation Act (NAGPRA), 25 U.S.C. 3003, of the completion of an inventory of human remains and associated funerary objects under the control of the U.S. Army Corps of Engineers, St. Louis District, St. Louis, MO. The human remains and associated funerary objects were removed from fee-titled property at Mark Twain Lake in the counties of Monroe and Ralls, MO.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the St. Louis District professional staff in consultation with representatives of the Absentee-Shawnee Tribe of Indians of Oklahoma; Cherokee Nation; Citizen Potawatomi Nation, Oklahoma; Delaware Nation, Oklahoma; Delaware Tribe of Indians; Eastern Shawnee Tribe of Oklahoma; Forest County Potawatomi Community, Wisconsin; Hannahville Indian Community, Michigan; Ho-Chunk Nation of Wisconsin; Iowa Tribe of Kansas and Nebraska; Iowa Tribe of Oklahoma; Kickapoo Traditional Tribe of Texas; Kickapoo Tribe of Indians of the Kickapoo Reservation in Kansas; Kickapoo Tribe of Oklahoma; Match-e-be-nash-she-wish Band of Pottawatomi, Michigan; Miami Tribe of Oklahoma; Nottawaseppi Huron Band of the Potawatomi, Michigan; Peoria Tribe of Indians of Oklahoma; Pokagon Band of Potawatomi Indians, Michigan and Indiana; Prairie Band Potawatomi Nation; Sac & Fox Nation of Missouri in Kansas and Nebraska; Sac & Fox Nation, Oklahoma; Sac & Fox Tribe of the Mississippi in Iowa; Shawnee Tribe; The Osage Nation; The Quapaw Tribe of Indians; United Keetoowah Band of Cherokee Indians in Oklahoma; and the Winnebago Tribe of Nebraska.

History and Description of the Remains

In 1960, human remains representing, at minimum, two individuals (one adult and one infant) and 17 associated funerary objects were removed from the center of Buie Mound site (23MN9) in Monroe County, MO. Materials were collected during archeological testing by the University of Missouri, Columbia, in advance of the construction of the dam to impound the Salt River for the creation of Mark Twain Lake. The human remains and objects were originally housed at the University of Missouri, Columbia. In February 2007, the collection was moved to Illinois State Museum, Springfield, where it is located today. The human remains were determined to be those of one adult male, represented by cranial remains, dental remains, and a partial postcranial skeleton and one infant of unknown sex as represented by three bone fragments. No known individuals were identified. The 17 associated funerary objects are 1 ceramic sherd, 1 biface fragment, and 15 pieces of lithic debitage. Documentation indicates that the site dates to the Late Woodland Period (A.D. 400-900).

In 1961, human remains representing, at minimum, three individuals (two adults and one sub-adult) and 49 associated funerary objects were removed from Garrelts I Site (23MN221) in Monroe County, MO. Materials were collected during archeological testing by the University of Missouri, Columbia, in advance of the construction of the dam to impound the Salt River for the creation of Mark Twain Lake. The human remains and objects were originally housed at the University of Missouri, Columbia. In February 2007, the collection was moved to Illinois State Museum, Springfield, where it is located today. The human remains were determined to be those of two adults, of unknown sex, represented by cranial, dental, and postcranial fragments, and one sub-adult, of unknown sex, represented by a fragment of mandible and loose teeth. No known individuals were identified. The 49 associated funerary objects are 3 chert flakes/debitage, 3 groundstone tools, 36 pieces of miscellaneous stone, 1 burned ceramic sherd, 2 pieces of unmodified fauna, 1 crinoid fossil, 1 sandstone abrader, 1 groundstone mano, and 1 hammer stone. Documentation indicates that the site dates to the Late Woodland Period (A.D. 400-900).

In 1967, human remains representing, at minimum, six individuals (five adults and one sub-adult) and 736 associated funerary objects were removed from the Cravens Site (23MN261) in Monroe County, MO. Materials were collected during archeological testing by the University of Missouri, Columbia, in advance of the construction of the dam to impound the Salt River for the creation of Mark Twain Lake. The human remains and objects were originally housed at the University of Missouri, Columbia. In February 2007, the collection was moved to Illinois State Museum, Springfield, where it is located today. The five adults, represented by fragmentary cranial, dental, and postcranial remains are that of one male, one female, and 3 of unknown sex. The one subadult is represented by one deciduous tooth and is of unknown sex. No known individuals were identified. The 736 associated funerary objects are 63 miscellaneous stone fragments, 5 pieces of worked faunal bone, 1 canid tooth with drilled hole at root end, 10 biface fragments, 1 complete projectile point, 364 pieces of lithic debitage, 18 unworked hematite fragments, 1 nutting stone, 1 incomplete biface drill, 13 fragments of ochre, 36 miscellaneous stones, 15 pieces of unworked faunal bone, 207 lithic flakes and shatter, and 1 fossil bivalve fragment. Documentation indicates that the site dates to the Middle to Late Woodland Period (200 B.C.-A.D. 900).

In 1978, human remains representing, at minimum, five individuals (three adults, one sub-adult, and one infant) and 1,332 associated funerary objects were removed from the Hatten Village Site (23MN272) in Monroe County, MO. Materials were collected during archeological testing by the University of Nebraska, Lincoln, in advance of the construction of the dam to impound the Salt River for the creation of Mark Twain Lake. The human remains and objects were originally housed at the University of Missouri, Columbia. In February 2007, the collection was moved to Illinois State Museum, Springfield, where it is located today. One adult is represented by a nearly complete cranium, teeth, fragmentary long bones, and small fragments of other postcranial remains are those of a male. Two adults of unknown sex are represented by cranial, dental, and postcranial remains. The one subadult of unknown sex is represented by dental remains and the one infant of unknown sex is represented by skull fragments, vertebrae fragments, and loose tooth. No known individuals were identified. The 1,332 associated funerary objects are 1 large piece of groundstone, 5 large chert cores, 1 intact mano, 1 fragmented mano, 474 ceramic sherds, 12 pieces of burned earth, 1 chert biface, 3 pieces of fired clay (daub), 1 ceramic pipe fragment, 1 large chert unifacial tool, 72 pieces of unmodified fauna, 30 fragments of unmodified shell, 1 crinoid fossil, 604 lithic flakes/debitage, 2 vials of pollen, 5 soil samples, 3 bags of flotation material, and 115 pieces of miscellaneous stones. Documentation indicates that the site dates to the Middle to Late Woodland Period (200 B.C.-A.D. 400-900).

In 1961, human remains representing, at minimum, 222 individuals (148 adults, 47 sub-adults, and 27 infants) and 188 associated funerary objects were removed from Hatten Mound (23MN275) in Monroe County, MO. Materials were collected during archeological testing by the University of Missouri, Columbia, in advance of the construction of the dam to impound the Salt River for the creation of Mark Twain Lake. The human remains and objects were originally housed at the University of Missouri, Columbia. In February 2007, the collection was moved to Illinois State Museum, Springfield, where it is located today. The burials were bundled, flexed, extended, and cremated. The individuals are represented by mandibles, cranial fragments, loose teeth, and fragmentary postcranial remains. The human remains represent 22 adult males, 10 adult females, 107 adults of unknown sex, 47 sub-adults of unknown sex, and 27 infants of unknown sex. No known individuals were identified. The 188 associated funerary objects are 15 anculosa shell beads and fragments, 1 clay elbow pipe, 1 cord marked ceramic vessel, 119 cord marked ceramic body sherds, 1 fragment of reconstructed bowl and 15 sherds from vessel, 1 white and grey chert biface fragment, 14 small chunks of galena, 4 small fragments of copper sheet, 2 antler tools (one broken in 2 pieces), 3 chert cores, 2 chert bifaces, 1 piece of worked faunal long bone, 4 beaver tooth fragments, 2 chert drills, 1 utilized chert flake, and 2 large pieces of debitage. Documentation indicates that the site dates to the Late Archaic (3000-1000 B.C.) and Late Woodland Period (A.D. 400-900).

In 1961, human remains representing, at minimum, one adult individual and 31 associated funerary objects were removed from Hatten Mound II (23MN300) in Monroe County, MO. Materials were collected during archeological testing by the University of Missouri, Columbia, in advance of the construction of the dam to impound the Salt River for the creation of Mark Twain Lake. The human remains and objects were originally housed at the University of Missouri, Columbia. In February 2007, the collection was moved to Illinois State Museum, Springfield, where it is located today. One adult of unknown sex is represented by fragmentary cranial, mandible, and postcranial remains and loose teeth. No known individual was identified. The 31 associated funerary objects are 1 lithic scraper, 1 lithic core, 2 lithic bifaces, 1 lithic biface fragment, 1 ground stone hammer stone, 13 flakes/debitage, and 12 pieces of hematite. Documentation indicated that the site dates to the Late Archaic (3000-1000 B.C.).

In 1961, human remains representing, at minimum, five individuals (three adults, one sub-adult, and one infant) and 766 associated funerary objects were removed from Garrelts II Site (23MN301) in Monroe County, MO. Materials were collected during archeological testing by the University of Missouri, Columbia, in advance of the construction of the dam to impound the Salt River for the creation of Mark Twain Lake. The human remains and objects were originally housed at the University of Missouri, Columbia. In February 2007, the collection was moved to Illinois State Museum, Springfield, where it is located today. Three adults are represented by cranial remains, loose teeth, and long bone fragments, the sub-adult (a child of about 6 years old) is represented by cranial fragments, loose teeth, and three postcranial fragments, and the one infant is represented by one long bone. All individuals are of unknown sex. Some of the human remains had been cremated. The 766 associated funerary objects are 1 grooved ground stone maul, 2 worked pieces of worked faunal bone, 10 mussel shells, 1 incised ceramic pipe bowl, 3 pieces of sandstone, 29 chipped stone cores, 12 bifaces and biface fragments, 2 chipped stone unifacial tools, 1 worked pebble, 1 small piece of ochre, 15 pieces of unmodified fauna, 51 miscellaneous stones, 14 fragments of unmodified shell, 15 pieces of hematite, 391 ceramic sherds, 215 lithic flakes/debitage, and 3 fossil fragments. Documentation indicated that the site dates to the Middle to Lake Woodland (200 B.C.-A.D. 900).

In 1979, human remains representing, at minimum, 21 individuals (13 adults, five sub-adults, and three infants) and 972 associated funerary objects were removed from the Cave Site (23MN796) in Monroe County, MO. Materials were collected during archeological testing by the University of Nebraska, Lincoln, in advance of the construction of the dam to impound the Salt River for the creation of Mark Twain Lake. The human remains and objects were originally housed at the University of Missouri, Columbia. In February 2007, the collection was moved to Illinois State Museum, Springfield, where it is located today. The individuals are represented by cranial fragments, dental remains, and postcranial elements and fragments. The human remains represent three adult males, one adult female, nine adults of unknown sex, five sub-adults of unknown sex, and three infants of unknown sex. No known individuals were identified. The 972 associated funerary objects are 1 stone pipe, 2 lithic bifaces, 12 biface fragments, 3 projectile point fragments, 2 cobbles, 756 flakes/debitage, 23 ceramic sherds, 1 piece of fired clay, 70 pieces of burned limestone, 64 miscellaneous stones, 4 ground stone fragments, 9 pieces of hematite, 22 fragments unmodified fauna, 2 lithic cores, and 1 small piece of sandstone. Documentation indicated that the site dates to the Late Woodland (A.D. 400-900).

In 1979, human remains representing, at minimum, six individuals (four adults, one sub-adult, and one infant) and 12 associated funerary objects were removed from the Cooper Site (23MN799) in Monroe County, MO. Materials were collected during archeological testing by the University of Nebraska, Lincoln, in advance of the construction of the dam to impound the Salt River for the creation of Mark Twain Lake. The human remains and objects were originally housed at the University of Missouri, Columbia. In February 2007, the collection was moved to Illinois State Museum, Springfield, where it is located today. One adult female is represented by postcranial fragments, one adult female is represented by teeth, cranial and femur fragments, and the other two adults are represented by teeth, cranial, mandible and postcranial fragments. The one sub-adult and one infant are represented by teeth, cranial, and long bone fragments. All individuals are of unknown sex. No known individuals were identified. The 12 associated funerary objects are 1 lithic core, 1 biface fragment, 4 bags of soil, 1 small piece of red ochre, 2 hematite beads, 2 pieces of unworked hematite, and 1 piece of unworked chert. Documentation indicated that the site dates to the Late Woodland/Early Mississippian (A.D. 1130-1160).

In 1977, human remains representing, at minimum, 17 individuals (11 adults, three sub-adults, and three infants) and 798 associated funerary objects were removed from Lick Springs Mound (23RA83) in Ralls County, MO. Materials were collected during archeological testing by the University of Nebraska, Lincoln, in advance of the construction of the dam to impound the Salt River for the creation of Mark Twain Lake. The human remains and objects were originally housed at the University of Missouri, Columbia. In February 2007, the collection was moved to Illinois State Museum, Springfield, where it is located today. The individuals are represented by cranial, postcranial, teeth, mandible, and long bone fragments. The human remains represent three male adults, eight adults of unknown sex, three sub-adults of unknown sex, and three infants of unknown sex. No known individuals were identified. The 798 associated funerary objects are 1 white chert notched biface, 1 small projectile point, 1 projectile point base, 13 pieces of burned limestone, 402 chert flakes/debitage, 1 small piece of fired clay, 184 ceramic sherds, 172 pieces of fired clay (daub), 2 small bags of burned limestone, and 21 hematite fragments. Documentation indicated that the site dates to the Late Woodland (A.D. 400-900).

In 1976, human remains representing, at minimum, one adult individual and 789 associated funerary objects were removed from Muskrat Run Site (23RA151) in Ralls County, MO. Materials were collected during archeological excavations as part of the “Cannon Reservoir Human Ecology Project” by the University of Nebraska, Lincoln, in advance of the construction of the dam to impound the Salt River for the creation of Mark Twain Lake. The human remains and objects were originally housed at the University of Missouri, Columbia. In February 2007, the collection was moved to Illinois State Museum, Springfield, where it is located today. The one adult individual is represented by lower long bone fragments, small postcranial fragments, and one foot element, and is of unknown sex. No known individual was identified. The 789 associated funerary objects are 1 biface fragment, 486 lithic flakes, 1 piece of miscellaneous stone (possible sandstone abrader), 1 piece of hematite, 2 pieces of ochre, 36 miscellaneous stones, 17 ceramic sherds, 34 pieces of daub (fired clay), 194 pieces of unmodified fauna, 3 bags of unsorted water screened material, 12 bags of flotation material, and 2 small bags of pollen samples. Documentation indicated that the site dates to the Late Archaic (3000-1000 B.C.) and Lake Woodland (A.D. 400-900).

In 1975, human remains representing, at minimum, one adult individual and no associated funerary objects were removed from the Foss Site (23RA271) in Ralls County, MO. Materials were collected during archeological test excavations by the University of Nebraska, Lincoln, in advance of the construction of the dam to impound the Salt River for the creation of Mark Twain Lake. The human remains and objects were originally housed at the University of Missouri, Columbia. In February 2007, the collection was moved to Illinois State Museum, Springfield, where it is located today. The one adult individual is represented by burned cranial fragments and teeth and is of unknown sex. No known individual was identified. No associated funerary objects are present. Documentation indicated that the site dates to Middle Archaic (5000-3000 B.C.) and Late Woodland (A.D. 400-900).

In 1960 human remains representing, at minimum, seven individuals (six adults and one sub-adult) and 76 associated funerary objects were removed from Shaver Mounds (23RA315) in Ralls County, MO. Materials were collected during archeological testing by the University of Missouri, Columbia, in advance of the construction of the dam to impound the Salt River for the creation of Mark Twain Lake. The human remains and objects were originally housed at the University of Missouri, Columbia. In February 2007, the collection was moved to Illinois State Museum, Springfield, IL, where it is located today. The human remains are very fragmentary and consist of partial long bone fragments, cranial, mandible, and dental fragments that represent six adults of unknown sex and one sub-adult of unknown sex. No known individuals were identified. The 76 associated funerary objects are 1 soil sample, 1 reworked Dalton point drill, 1 chipped stone scraper, 2 bifaces, 65 chert flakes, 2 pieces of red ochre, 1 piece of hematite, 1 chert biface, 1 grit-tempered ceramic sherd, and 1 small seed. Documentation indicated that the site dates to Late Woodland (AD 400-900).

In 1962, human remains representing, at minimum, four individuals (two adults, one sub-adult, and one infant) and two associated funerary objects were removed from Starr Mounds (23RA321) in Ralls County, MO. Materials were collected during archeological testing by the University of Missouri, Columbia, in advance of the construction of the dam to impound the Salt River for the creation of Mark Twain Lake. The human remains and objects were originally housed at the University of Missouri, Columbia. In February 2007, the collection was moved to Illinois State Museum, Springfield, where it is located today. The human remains were bundle burials. The adult male is represented by a maxilla and mandible and a nearly complete pelvis. The adult of unknown sex is represented by fragments of cranial and dental remains. The one sub-adult of unknown sex is represented by loose teeth, and the one infant of unknown is represented by a few fragments of dental and vertebra remains. No individuals were identified. The two associated funerary objects are 1 chert blade and 1 cord marked ceramic sherd. Documentation indicated that the site dates to the Late Woodland (A.D. 400-900).

In 1962, human remains representing, at minimum, seven individuals (four adults, one sub-adult, and two infants) and 131 associated funerary objects were removed from Calvert Mound (23RA325) in Ralls County, MO. Materials were collected during archeological testing by the University of Missouri, Columbia, in advance of the construction of the dam to impound the Salt River for the creation of Mark Twain Lake. The human remains and objects were originally housed at the University of Missouri, Columbia. In February 2007, the collection was moved to Illinois State Museum, Springfield, where it is located today. Two burial chambers within the mound contained multiple interments. The human remains consisted of cranial fragments, loose teeth, and fragmentary postcranial elements of four adults of unknown sex. The one sub-adult of unknown sex is represented by cranial fragments and loose teeth, and the one infant of unknown sex is represented by cranial fragments, long bone fragments and postcranial fragments. No known individuals were identified. The 131 associated funerary objects are 21 pieces of unmodified fauna, 1 piece of wood, 3 seed/nutshell fragments, 53 pieces of shell (mostly turtle), 10 miscellaneous stones, 4 fragments of charcoal, 32 small lithic flakes, 4 pieces of modified fauna, 2 ceramic sherds, and 1 large sandstone hoe. Documentation indicated that the site dates to the Late Woodland (A.D. 400-900).

Determinations Made by the U.S. Army Corps of Engineers, St. Louis District

Officials of the St. Louis District have determined that:

• Pursuant to 25 U.S.C. 3001(9), the human remains described in this notice are Native American based on morphological characteristics of the skeletal remains, archeological context, and objects associated with the human remains.

• Pursuant to 25 U.S.C. 3001(9), the human remains described in this notice represent the physical remains of 308 individuals of Native American ancestry.

• Pursuant to 25 U.S.C. 3001(3)(A), the 5,899 objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• According to a final judgment of the Indian Claims Commission, the land from which the Native American human remains and associated funerary objects were removed is the aboriginal land of the Sac & Fox Nation of Missouri in Kansas and Nebraska, the Sac & Fox Nation, Oklahoma, and the Sac & Fox Tribe of the Mississippi in Iowa.

• Treaties in 1804, 1815, and 1816, indicate the land from which the Native American human remains and associated funerary objects were removed was ceded by the Sac and Fox and is the aboriginal land of the Sac & Fox Nation of Missouri in Kansas and Nebraska, the Sac & Fox Nation, Oklahoma, and the Sac & Fox Tribe of the Mississippi in Iowa.

• Pursuant to 43 CFR 10.11(c)(1), the disposition of the human remains and associated funerary objects may be to the Sac & Fox Nation of Missouri in Kansas and Nebraska, the Sac & Fox Nation, Oklahoma, and the Sac & Fox Tribe of the Mississippi in Iowa.

Additional Requestors and Disposition

Representatives of any Indian tribe or Native Hawaiian organization not identified in this notice that wish to request transfer of control of these human remains and associated funerary objects should submit a written request with information in support of the request to U.S. Army Corps of Engineers, St. Louis District, ATTN: CEMVS-EC-Z (Michael K. Trimble, Ph.D.), 1222 Spruce Street, St. Louis, MO 63103-2833, telephone (314) 331-8466, email michael.k.trimble@usace.army.mil, by July 9, 2015. After that date, if no additional requestors have come forward, transfer of control of the human remains and associated funerary objects to the Sac & Fox Nation of Missouri in Kansas and Nebraska, the Sac & Fox Nation, Oklahoma, and the Sac & Fox Tribe of the Mississippi in Iowa may proceed.

The U.S. Army Corps of Engineers, St. Louis District is responsible for notifying the Sac & Fox Nation of Missouri in Kansas and Nebraska, the Sac & Fox Nation, Oklahoma, and the Sac & Fox Tribe of the Mississippi in Iowa that this notice has been published.

Dated: May 6, 2015.
Mariah Soriano,
Acting Manager, National NAGPRA Program.

[FR Doc. 2015-14111 Filed 6-8-15; 8:45 am]

BILLING CODE 4312-50-P